DEPARTMENT OF ENERGY

Federal Energy Regulatory Commission

Combined Notice of Filings #1

Take notice that the Commission received the following electric rate filings:

Docket Numbers: ER11-1844-003.

Applicants: Midcontinent Independent System Operator, Inc.

Description: Midcontinent Independent System Operator, Inc. submits tariff filing per 35: 2016-10-24_Compliance filing to address ITC PARs Order to be effective 1/1/2011.

Filed Date: 10/24/16.

Accession Number: 20161024-5046.

Comments Due: 5 p.m. ET 11/14/16.

Docket Numbers: ER16-833-003.

Applicants: Midcontinent Independent System Operator, Inc.

Description: Compliance filing: 2016-10-21_Default Technology Specific Avoidable Cost to be effective 9/1/2016.

Filed Date: 10/21/16.

Accession Number: 20161021-5153.

Comments Due: 5 p.m. ET 11/14/16.

Docket Numbers: ER16-1314-002.

Applicants: Southwest Power Pool, Inc.

Description: Compliance filing: 2198R20 and 2198R21 KPP NITSA NOA Compliance Filing to be effective 3/1/2016.

Filed Date: 10/24/16.

Accession Number: 20161024-5078.

Comments Due: 5 p.m. ET 11/14/16.

Docket Numbers: ER16-2402-001.

Applicants: UGI Utilities Inc.

Description: Compliance filing: Supplemental Revisions to Market Based Rate Tariff to be effective 10/10/2016.

Filed Date: 10/24/16.

Accession Number: 20161024-5119.

Comments Due: 5 p.m. ET 11/14/16.

Docket Numbers: ER16-2403-001.

Applicants: UGI Development Company.

Description: Compliance filing: Supplemental Revisions to Market Based Rate Tariff to be effective 10/10/2016.

Filed Date: 10/24/16.

Accession Number: 20161024-5126.

Comments Due: 5 p.m. ET 11/14/16.

Docket Numbers: ER17-158-000.

Applicants: Western Farmers Electric Cooperative.

Description: Petition for Tariff Waiver of Western Farmers Electric Cooperative.

Filed Date: 10/21/16.

Accession Number: 20161021-5173.

Comments Due: 5 p.m. ET 11/14/16.

Docket Numbers: ER17-159-000.

Applicants: DTE Electric Company.

Description: Notice of Cancellation of Tariff No. 1 of DTE Electric Company.

Filed Date: 10/24/16.

Accession Number: 20161024-5033.

Comments Due: 5 p.m. ET 11/14/16.

Docket Numbers: ER17-160-000.

Applicants: Public Service Company of New Mexico.

Description: Tariff Cancellation: Notice of Cancellation of Third Revised NITSA and Third Revised NOA to be effective 12/31/2016.

Filed Date: 10/24/16.

Accession Number: 20161024-5059.

Comments Due: 5 p.m. ET 11/14/16.

Docket Numbers: ER17-161-000.

Applicants: Public Service Company of New Mexico.

Description: Tariff Cancellation: Notice of Cancellation of Power Sale Agreement to be effective 12/31/2016.

Filed Date: 10/24/16.

Accession Number: 20161024-5057.

Comments Due: 5 p.m. ET 11/14/16.

Docket Numbers: ER17-162-000.

Applicants: Public Service Company of New Mexico.

Description: Compliance filing: Executed Service Agreement for Electric Service under PNM?s Coordination Tariff to be effective 1/1/2017.

Filed Date: 10/24/16.

Accession Number: 20161024-5058.

Comments Due: 5 p.m. ET 11/14/16.

Docket Numbers: ER17-163-000.

Applicants: PJM Interconnection, L.L.C.

Description: § 205(d) Rate Filing: First Revised ISA No. 4331, Queue No. AA2-139 to be effective 9/22/2016.

Filed Date: 10/24/16.

Accession Number: 20161024-5113.

Comments Due: 5 p.m. ET 11/14/16.

Docket Numbers: ER17-164-000.

Applicants: Wisconsin Public Service Corporation.

Description: § 205(d) Rate Filing: WPS Corp and Daggett Agreement for Wholesale Distribution Service to be effective 1/1/2017.

Filed Date: 10/24/16.

Accession Number: 20161024-5127.

Comments Due: 5 p.m. ET 11/14/16.

Docket Numbers: ER17-165-000.

Applicants: Wisconsin Public Service Corporation.

Description: § 205(d) Rate Filing: WPS Corp and Stephenson Agreement for Wholesale Distribution Service to be effective 1/1/2017.

Filed Date: 10/24/16.

Accession Number: 20161024-5128.

Comments Due: 5 p.m. ET 11/14/16.

Docket Numbers: ER17-166-000.

Applicants: Upper Michigan Energy Resources Corporation.

Description: § 205(d) Rate Filing: UMERC to Daggett Rate Schedule No 6 to be effective 1/1/2017.

Filed Date: 10/24/16.

Accession Number: 20161024-5129.

Comments Due: 5 p.m. ET 11/14/16.

Docket Numbers: ER17-167-000.

Applicants: Upper Michigan Energy Resources Corporation.

Description: § 205(d) Rate Filing: UMERC to Stephenson Rate Schedule No 7 to be effective 1/1/2017.

Filed Date: 10/24/16.

Accession Number: 20161024-5135.

Comments Due: 5 p.m. ET 11/14/16.

Docket Numbers: ER17-168-000.

Applicants: Applied Energy LLC.

Description: Baseline eTariff Filing: Market-Based Rates Application to be effective 12/24/2016.

Filed Date: 10/24/16.

Accession Number: 20161024-5141.

Comments Due: 5 p.m. ET 11/14/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 24, 2016.
Nathaniel J. Davis, Sr.,
Deputy Secretary.

[FR Doc. 2016-26225 Filed 10-28-16; 8:45 am]

BILLING CODE 6717-01-P